DEPARTMENT OF ENERGY

Federal Energy Regulatory Commission

[Docket No. PL07-2-000]

Composition of Proxy Groups for Determining Gas and Oil Pipeline Return on Equity; Notice of Opportunity for Filing Reply Comments

January 31, 2008.

On January 23, 2008, a technical conference was held in this proceeding on the issue of master limited partnership growth rates.¹ As required by the Commission's December 13, 2007 notice, initial post-conference comments must be filed on or before February 11, 2008. In addition, notice is hereby given that reply comments may be filed on or before February 20, 2008.

Kimberly D. Bose,
Secretary.

¹ The technical conference was established by Commission order issued November 15, 2007. See Composition of Proxy Groups for Determining Gas and Oil Pipeline Return on Equity, 121 FERC ¶ 61,165 (2007).

[FR Doc. E8-2201 Filed 2-6-08; 8:45 am]

BILLING CODE 6717-01-P